DEPARTMENT OF DEFENSE

Department of the Army

Proposed Mandatory Use of US Bank's PowerTrack System by Department of Defense Personal Property Transportation Service Providers

Correction

In notice document 03-24612 beginning on page 55947 in the issue of Monday, September 29, 2003, make the following correction:

On page 55947, in the second column, in the second to the last paragraph, in the sixth line “2003” should read “2004”.

[FR Doc. C3-24612 Filed 10-2-03; 8:45 am]

BILLING CODE 1505-01-D